DEPARTMENT OF TRANSPORTATION

Office of the Secretary

Notice of Applications for Certificates of Public Convenience and Necessity and Foreign Air Carrier Permits Filed Under Subpart B (formerly Subpart Q) During the Week Ending December 28, 2001

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2001-11251.

Date Filed: December 28, 2001.

Due Date for Answers, Conforming Applications, or Motion to Modify Scope: January 18, 2002.

Description: Application of Amerijet International, Inc., pursuant to 49 U.S.C. section 41105, requesting a disclaimer of jurisdiction and reissuance of certificate or, alternatively, approval of the transfer of Amerijet's certificates of public convenience and necessity and other operating authority to Amerijet Acquisition Corporation.

Dorothy Y. Beard,
Federal Register Liaison.

[FR Doc. 02-1257 Filed 1-16-02; 8:45 am]

BILLING CODE 4910-62-P